GENERAL SERVICES ADMINISTRATION

[Notice-MK-2013-10; Docket No. 2013-0002; Sequence 32]

The Presidential Commission on Election Administration (PCEA); Upcoming Public Advisory Meeting

AGENCY: Office of Government-Wide Policy, U.S. General Services Administration (GSA).

ACTION: Meeting notice.

SUMMARY: The Presidential Commission on Election Administration (PCEA), a Federal Advisory Committee established in accordance with the Federal Advisory Committee Act (FACA), 5 U.S.C., App., and Executive Order 13639, as amended by EO 13644, will hold a meeting open to the public via teleconference on Thursday, November 14, 2013.

DATES: Effective date: October 30, 2013.

Meeting date: The meeting will be held on Thursday, November 14, 2013, beginning at 4:00 p.m. and ending no later than 6:30 p.m., Eastern Standard Time.

FOR FURTHER INFORMATION CONTACT: Mr. Mark Nejbauer, Designated Federal Officer, General Services Administration, Presidential Commission on Election Administration, 1776 G Street NW., Washington, DC 20006, email mark.nejbauer@supportthevoter.gov.

SUPPLEMENTARY INFORMATION:

Background: The PCEA was established to identify best practices and make recommendations to the President on the efficient administration of elections in order to ensure that all eligible voters have the opportunity to cast their ballots without undue delay, and to improve the experience of voters facing other obstacles in casting their ballots.

Agenda: The purpose of this meeting is for Commission members to discuss the subjects set forth in Executive Order 13639, as amended, and relate back to the full Commission information that was gathered from meetings apart from the public hearings.

Meeting Access: The teleconference meeting is open to the public; interested members of the public may listen to the PCEA discussion using 1-888-606-9808 and pass code 7036450. Members of the public will not have the opportunity to ask questions or otherwise participate in the teleconference. However, members of the public wishing to comment should follow the steps detailed in Procedures for Providing Public Comments below.

Attendance at the Meeting: Please see the PCEA Web site (http://www.supportthevoter.gov) for any materials available in advance of the meeting. Detailed meeting minutes will be posted within 90 days of the meeting.

Procedures for Providing Public Comments: In general, public comments will be posted on the PCEA Web site (see above). All comments, including attachments and other supporting materials, received are part of the public record and subject to public disclosure. Any comments submitted in connection with the PCEA meeting will be made available to the public under the provisions of the Federal Advisory Committee Act. The public is invited to submit written comments for this meeting until 5:00 p.m. Eastern Standard Time on Monday, November 11, 2013, by either of the following methods:

Electronic or Paper Statements: Submit electronic statements to Mr. Nejbauer, Designated Federal Officer at mark.nejbauer@supportthevoter.gov; or send three (3) copies of any written statements to Mr. Nejbauer at the PCEA GSA address above. Written testimony not received by 5:00 p.m. Eastern Time on Monday, November 11, 2013 may be submitted but will not be considered at the Thursday, November 14, 2013 meeting.

Dated: October 25, 2013.
Anne Rung,
Associate Administrator, Office of Government-Wide Policy, General Services Administration.

[FR Doc. 2013-25817 Filed 10-29-13; 8:45 am]

BILLING CODE 6820-14-P